FEDERAL RETIREMENT THRIFT INVESTMENT

Board Member Meeting

DATES: May 13, 2020, 10:00 a.m., Telephonic.

Open Session

Investment Policy Review.

FOR FURTHER INFORMATION CONTACT: Kimberly Weaver, Director, Office of External Affairs, (202) 942-1640.

SUPPLEMENTARY INFORMATION: Dial-in (listen only) information: Number: 1-877-446-3914, Code: 3037482.

Dated: May 7, 2020.
Megan Grumbine,
General Counsel, Federal Retirement Thrift Investment Board.

[FR Doc. 2020-10242 Filed 5-12-20; 8:45 am]

BILLING CODE 6760-01-P